DEPARTMENT OF THE INTERIOR

Meeting of the California Desert District Advisory Council

AGENCY: Bureau of Land Management, Interior.

ACTION: Notice of public meeting.

SUMMARY: Notice is hereby given, in accordance with Pub. L. 92-463 and 94-579, that the California Desert District Advisory Council to the Bureau of Land Management, U.S. Department of the Interior, will meet in formal session on Friday, April 1, 2005, from 8 a.m. to 5 p.m. and Saturday, April 2 from 8 a.m. to 4 p.m. The meeting will be held in the conference room in the Ramada Inn, located at 1511 East Main Street in Barstow, California.

Tentative agenda items include the following:

—Reports by Council members, the District Manager and five field office managers.

—Presentation by BLM's Ridgecrest Field Office staff regarding its Adopt-A-Cabin Program.

—Update on the West Mojave Plan.

—Status report on the Surprise Canyon administrative environmental impact statement.

—Briefing by the U.S. Fish and Wildlife Service regarding its Desert Tortoise Assessment Report and the new Desert Tortoise Recovery Office.

—Udate on the Dumont Dunes Recreation Fee Demo Program.

—Council discussion to develop grazing consultation policy/procedure for the California Desert District.

All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District Public Affairs Specialist (951) 697-5220.

Dated: January 11, 2005.
Linda Hansen,
District Manager.

[FR Doc. 05-998 Filed 1-18-05; 8:45 am]

BILLING CODE 4310-40-P